FEDERAL COMMUNICATIONS COMMISSION

Notice of Public Information Collection(s) Being Submitted for Review to the Office of Management and Budget

July 31, 2008.

SUMMARY: The Federal Communications Commission, as part of its continuing effort to reduce paperwork burden invites the general public and other Federal agencies to take this opportunity to comment on the following information collection(s), as required by the Paperwork Reduction Act (PRA) of 1995, 44 U.S.C. 3501-3520. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before September 22, 2008. If you anticipate that you will be submitting PRA comments, but find it difficult to do so within the period of time allowed by this notice, you should advise the FCC contact listed below as soon as possible.

ADDRESSES: Direct all PRA comments to Nicholas A. Fraser, Office of Management and Budget, (202) 395-5887, or via fax at 202-395-5167 or via Internet at Nicholas_A._Fraser@omb.eop.gov and to Judith-B. Herman@fcc.gov, Federal Communications Commission, or an e-mail to PRA@fcc.gov. To view a copy of this information collection request (ICR) submitted to OMB: (1) Go to the web page http://reginfo.gov/public/do/PRAMain, (2) look for the section of the web page called “Currently Under Review”, (3) click on the downward-pointing arrow in the “Select Agency” box below the “Currently Under Review” heading, (4) select “Federal Communications Commission” from the list of agencies presented in the “Select Agency” box, (5) click the “Submit” button to the right of the “Select Agency” box, and (6) when the list of FCC ICRs currently under review appears, look for the title of this ICR (or its OMB Control Number, if there is one) and then click on the ICR Reference Number to view detailed information about this ICR.

FOR FURTHER INFORMATION CONTACT: For additional information or copies of the information collection(s), contact Judith B. Herman at 202-418-0214 or via the Internet at Judith-B.Herman@fcc.gov.

SUPPLEMENTARY INFORMATION: OMB Control Number: 3060-1008.

Title: Section 27.50, Power and Antenna Height Limits; and Section 27.602, Guard Band Manager Agreements.

Form No.: N/A.

Type of Review: Revision of a currently approved collection.

Respondents: Business or other for-profit and state, local and tribal government.

Number of Respondents: 580 respondents; 580 responses.

Estimated Time per Response: .50-6 hours average burden per response.

Frequency of Response: On occasion reporting requirement, recordkeeping requirement, and third party disclosure requirement.

Obligation to Respond: Mandatory.

Total Annual Burden: 631 hours.

Total Annual Cost: N/A.

Privacy Act Impact Assessment: N/A.

Nature and Extent of Confidentiality: There is no need for confidentiality.

Needs and Uses: The Commission will submit this information collection (IC) to the OMB as a revision during this comment period to obtain the full three-year clearance from them.

The FCC adopted and released a Report and Order in FCC 07-72 in April 2007 which contained modified information collection requirements. Additionally, the Commission is revising this information collection to consolidate two information collections (ICs) into one comprehensive (IC). After OMB approves 3060-1008, the Commission will discontinue 3060-1027 and retain 3060-1008 as the active OMB Control Number in OMB's inventory.

The April 2007 Report and Order made two changes. First 47 CFR 27.50(c)(5) now designated as 27.50(c)(8) and its scope is changed slightly. The section previously covered stations operating “at a power level greater than 1 Kw ERP” and is now “under the provisions of (c)(6),” which defines the group as “transmitting a signal at an ERP greater than 1000 watts and greater than 1000 watts/MHz” or in rural counties “if transmitting a signal with an ERP greater than 2000 watts and greater than 2000 watts/MHz.”

Specifically, lower 700 MHz licensees intending to operate a base or fixed station at a power level permitted under the provisions of paragraph (c)(6) must provide advanced notice of such operation to the Commission and to licensees authorized in their area of operation. Licensees who must be notified are all licensees authorized under this part to operate on an adjacent spectrum block within 75 miles (120 km) of the base or fixed station, including the station's ERP, antenna coordinates, antenna height above ground, and vertical antenna pattern, and such notifications must be provided at least 90 days prior to the commencement of station operation. Second, in relation to lower 700 MHz service rules, in the April 2007 Report and Order, the Commission, in response to proposals by parties seeking greater power limits for rural area operations, permits power levels of up to 2 kw/MHz ERP in rural areas. In an effort to be consistent with its Part 27 rules with respect to the Advanced Wireless Service (AWS), the Commission allowed rural licensees operating with bandwidths less than one megahertz to operate at power levels up to 2 kW ERP over their bandwidth, but at the same time imposed on licensees operating at such increased power levels a requirement to coordinate with other licensees in nearby areas similar to that requirement applied to similarly-situated AWS licensees under 47 CFR 27.50(d)(1).

Specifically, section 27.50(c)(5)(i) and (ii) requires that lower 700 MHz licensees seeking to operate a fixed or base station located in a county with population density of 100 or fewer persons per square mile, based upon the most recently available population statistics from the Bureau of the Census, and transmitting a signal at an ERP greater than 1000 watts must:

(i) Coordinate in advance with all licensees authorized to operate in the 698-764 MHz and 776-794 MHz bands within 120 kilometers (75 miles) of the base or fixed station;

(ii) Coordinate in advance with all regional planning committees, as identified in section 90.527 of FCC's rules, with jurisdiction within 120 kilometers (75 miles) of the base or fixed station.

Note: The notification requirement in section 27.50(c)(5) includes a material change to the collection instrument in that more stations may be captured by the regulation if they take advantage of the new power limits.

Finally, in relation to the Guard Bands service rules, the April 2007 Report and Order replaced the “band manager” leasing regime which previously applied to Guard Bands licensees with spectrum leasing policies and rules adopted in the Secondary Markets proceeding in WT Docket 00-230, to provide Guard Band licensees and spectrum users additional flexibility to enter into spectrum leasing agreements. Because the Commission will now apply the different spectrum leasing rules, the requirement previously found in OMB Control Number 3060-1027, pursuant to 47 CFR 27.602, was revised to reflect the change in leasing policies.

Pursuant to 47 CFR 27.602, Guard Band Managers are required to enter into written agreements regarding the use of their licensed spectrum by others, subject to certain conditions outlined in the rules. Section 27.602(h) requires Guard Band Managers to maintain their written agreements with spectrum users at their principal place of business, and retain such records for at least two years after the date such agreements expire. Such records shall be kept current and made available upon request for inspection by the Commission or its representatives.

The service rules have been designed to promote the development and rapid deployment of new technologies, products and services for the benefit of the public; to promote economic opportunity and competition; and to create an efficient and intensive use of the spectrum by promoting the objectives identified in 47 U.S.C. 309(j), and to alleviate any problems associated with the increased power limits available to rural licensees.

Federal Communications Commission.
Marlene H. Dortch,
Secretary.

[FR Doc. E8-19175 Filed 8-20-08; 8:45 am]

BILLING CODE 6712-01-P